GENERAL SERVICES ADMINISTRATION

[OMB Control No. 3090-XXXX; Docket No. 2024-0001; Sequence No. 15]

Information Collection; Learning From Tribal Governments' Experiences With American Rescue Plan Programs

AGENCY: Office of Evaluation Sciences; Office of Government-wide Policy (OGP), General Services Administration (GSA).

ACTION: Notice and request for comments regarding a request for a new OMB clearance.

SUMMARY: Under the provisions of the Paperwork Reduction Act, the Regulatory Secretariat Division will be submitting to the Office of Management and Budget (OMB) a request to review and approve a new information collection request regarding new data collection activities conducted by OES. The objective of this project is to record and amplify key lessons learned from the American Rescue Plan Act of 2021 (ARP) programs that provided dedicated funding for Tribal governments. This project will include in-depth evaluations of three selected ARP programs that supported Tribal governments during the pandemic. We will conduct a set of qualitative, descriptive studies that aim to understand Tribal governments' awareness of, access to, and allocation of ARP-funded programs and resources.

DATES: Submit comments on or before January 7, 2025.

ADDRESSES: Submit comments identified by “Information Collection 3090-XXXX; Learning from Tribal Governments' Experiences with American Rescue Plan Programs” to https://www.regulations.gov.

Submit comments via the Federal eRulemaking portal by searching for “Information Collection 3090-XXXX; Learning from Tribal Governments' Experiences with American Rescue Plan Programs”. Select the link “Submit a Comment” that corresponds with “Information Collection 3090-XXXX; Learning from Tribal Governments' Experiences with American Rescue Plan Programs”. Follow the instructions provided at the “Submit a Comment” screen. Please include your name, company name (if any), and “Information Collection 3090-XXXX; Learning from Tribal Governments' Experiences with American Rescue Plan Programs” on your attached document. If your comment cannot be submitted using regulations.gov, call or email the points of contact in the FOR FURTHER INFORMATION CONTACT section of this document for alternate instructions.

Instructions: Please submit comments only and cite “Information Collection 3090-XXXX; Learning from Tribal Governments' Experiences with American Rescue Plan Programs” in all correspondence related to this collection. Comments received generally will be posted without change to regulations.gov, including any personal and/or business confidential information provided. To confirm receipt of your comment(s), please check regulations.gov, approximately two-to-three business days after submission to verify posting.

FOR FURTHER INFORMATION CONTACT: Blair Read, Portfolio Lead, Office of Evaluation Sciences, at telephone 617-459-5428 or via email to blair.read@gsa.gov for clarification of content.

SUPPLEMENTARY INFORMATION:

A. Purpose

The Office of Evaluation Sciences (OES) at GSA has a mission to build and use evidence to better serve the public. The goal of this study is to look across several American Rescue Plan-funded programs that provided dedicated funding for Tribal governments. ARP represented the largest ever infusion of resources into Native nations by the federal governments. In some instances, the ARP was the first time Tribal governments and federal program teams worked together on a dedicated and direct transfer of program funds, requiring rapid innovation and experimentation in program design and intergovernmental partnership. Thus, it is vital to record and amplify key lessons learned, in order for the federal government to be better-positioned to support Native nations in future crises.

Through three data collection methods (interviews, focus groups, and a survey), we seek to learn about and report on the experiences of Tribal government employees or representatives, and the broader communities served by Tribal governments, as it relates to programs funded by ARP for which those Tribal governments were eligible.

With this effort, we seek to understand and highlight successes and challenges in learning about, applying for, and implementing these programs. This effort will be led by a Tribal Engagement Fellow and will be rooted in community engagement to ensure that the studies are informed by the priorities and perspectives of Tribal governments. The study aims to address the following research questions:

• What are Tribes' experiences with accessing ARP-funded programs?

• What are Tribes' experience with implementing ARP-funded programs?

As case studies, we will focus on three different ARP-funded programs in Tribal communities programs as case studies. From this data, we will produce 1-3 descriptive reports that share learnings about Tribal governments' experiences with specific programs. These summaries of the interviews, focus groups, and survey data will be included in a series of public facing reports, which will seek to highlight areas of success and lessons learned for improving federal agency support for Tribal nations going forward. In addition, we plan to produce a report that will synthesize these findings. It will include broader insights and shared learnings across these studies.

Respondents: Representatives from Native nations who were involved in applying to or implementing the ARP-funded programs.

B. Annual Reporting Burden

The estimates below are calculated based on three data collection activities: 24 60-minute interviews (8 per program), 9 two-hour focus groups with 5 participants (3 per program), and a brief survey (100 respondents) of approximately 15 questions. These research activities will take place across the three ARP-funded programs included in our study. Respondents will only be asked to participate in one data collection activity.

Respondents: 169.

Responses per Respondent: 13.

Total Annual Responses: 2,250.

Hours per Response: 0.11.

Total Burden Hours: 239.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division by calling 202-501-4755 or emailing GSARegSec@gsa.gov. Please cite OMB Control No. 3090-XXXX, Title, in all correspondence.

Lois Mandell,
Director, Regulatory Secretariat Division, General Services Administration.

[FR Doc. 2024-26012 Filed 11-7-24; 8:45 am]

BILLING CODE 6820-TZ-P